DEPARTMENT OF HOMELAND SECURITY

[Docket No. DHS-2008-0086]

Homeland Security Advisory Council

AGENCY: Policy Directorate, DHS.

ACTION: Notice of Open Teleconference Federal Advisory Committee Meeting.

SUMMARY: The Homeland Security Advisory Council (HSAC) will meet via teleconference for purposes of reviewing and reporting to the Secretary of the Department of Homeland Security the ten most pressing strategic-level challenges that will confront the next Secretary of Homeland Security.

DATES: The HSAC conference call will take place from 3 p.m. to 4 p.m. EST on Thursday, September 11, 2008. Please be advised that the meeting is scheduled for one hour and we encourage all participating members of the public to call-in at the beginning of the call.

ADDRESSES: The HSAC meeting will be held via teleconference. The dial in number is 1-800-860-2442 with a PIN code of 82242#. Members of the public interested in participating in this teleconference meeting may do so by following the process outlined below (see “Public Attendance”).

If you desire to submit written comments, they must be submitted by September 5, 2008. Comments must be identified by DHS-2008-0086 and may be submitted by one of the following methods:

• Federal eRulemaking Portal: http://www.regulations.gov. Follow the instructions for submitting comments.

• E-mail: HSAC@dhs.gov. Include docket number in the subject line of the message.

• Fax: (202) 282-9207.

• Mail: Homeland Security Advisory Council, Department of Homeland Security, Mailstop 0850, 245 Murray Lane, SW., Washington, DC 20528.

Instructions: All submissions received must include the words “Department of Homeland Security” and DHS-2008-0086, the docket number for this action. Comments received will be posted without alteration at http://www.regulations.gov, including any personal information provided.

Docket: For access to the docket to read background documents or comments received by the DHS Homeland Security Advisory Council, go to http://www.regulations.gov.

FOR FURTHER INFORMATION CONTACT: Jennifer Myers, Homeland Security Advisory Council, Washington, DC 20528, (202) 447-3135, HSAC@dhs.gov.

SUPPLEMENTARY INFORMATION: Notice of this meeting is given under the Federal Advisory Committee Act, 5 U.S.C. App. (Pub. L. 92-463). The HSAC provides independent advice to the Secretary of the Department of Homeland Security to aide in the creation and implementation of critical and actionable policies and capabilities across the spectrum of homeland security operations. The HSAC shall periodically report, as requested, to the Secretary, on such matters. The HSAC serves as an advisory body with the goal of providing strategic, timely and actionable advice upon the request of the Secretary.

The HSAC will meet to review the ten most pressing strategic-level challenges that face the incoming Secretary of Homeland Security.

Public Participation: Members of the public may register to participate in this HSAC teleconference via the procedures that follow. Each individual must provide his or her full legal name and e-mail address and phone number no later than 5 p.m. EST., September 8, 2008, to Jennifer Myers or a staff member of the HSAC via e-mail at HSAC@dhs.gov or via phone at (202) 447-3135. HSAC conference call details will be provided to interested members of the public.

Information on Services for Individuals with Disabilities: For information on facilities or services for individuals with disabilities, or to request special assistance at the meeting, contact Jennifer Myers as soon as possible.

Dated: August 18, 2008.
Jeffrey D. Stern,
Executive Director, Homeland Security Advisory Committees.

[FR Doc. E8-19557 Filed 8-21-08; 8:45 am]

BILLING CODE 4410-10-P